FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR Part 515, effective on the corresponding date shown below:

License Number: 016704F.

Name: Candice K. Blankenship.

Address: 1025 Wynngate Drive, Chesapeake, VA 23320.

Date Revoked: March 15, 2007.

Reason: Failed to maintain a valid bond.

License Number: 004664F.

Name: Cornerstone Logistics Incorporated.

Address: 1017 Grandview Drive, So. San Francisco, CA 94080.

Date Revoked: March 12, 2007.

Reason: Failed to maintain a valid bond.

License Number: 018482N.

Name: Dolphin Shipping, Inc.

Address: 600 E. Ocean Blvd., Ste. 802, Long Beach, CA 90802.

Date Revoked: March 17, 2007.

Reason: Failed to maintain a valid bond.

License Number: 019816F.

Name: Eastern Mercantile, Inc.

Address: 5232 Settlers Park Drive, Virginia Beach, VA 23464.

Date Revoked: March 17, 2007.

Reason: Failed to maintain a valid bond.

License Number: 019662NF.

Name: Hemisphere Cargo Corp. dba H Cargo Lines

Address: 10850 Northwest 21st Street, Ste. 100, Miami, FL 33172.

Date Revoked: March 17, 2007.

Reason: Failed to maintain valid bonds.

License Number: 018339NF.

Name: International Freight Logistics LLC.

Address: 28803 Flower Park Drive, Inglewood, CA 90301.

Date Revoked: April 2, 2007.

Reason: Surrendered license voluntarily.

License Number: 020480NF.

Name: New Horizon Shipping, Inc.

Address: 30251 Golden Lantern, Ste. E-#207, Laguna Niguel, CA 92677.

Date Revoked: March 13, 2007.

Reason: Surrendered license voluntarily.

License Number: 018818N.

Name: Ramses Logistics USA, Inc.

Address: 18726 S. Western Ave., Ste. 317, Gardena, CA 90248.

Date Revoked: March 17, 2007.

Reason: Failed to maintain a valid bond.

License Number: 015262N.

Name: Triton Forwarding, Inc.

Address: 3080 Bristol Street, Ste. 610, Costa Mesa, CA 92626.

Date Revoked: March 14, 2007.

Reason: Failed to maintain a valid bond.

License Number: 019351NF.

Name: YJC Global, Inc.

Address: 460 E. Carson Plaza Drive, #219, Carson, CA 90746.

Date Revoked: March 17, 2007.

Reason: Surrendered license voluntarily.

Sandra L. Kusumoto,
Director, Bureau of Certification and Licensing.

[FR Doc. E7-6853 Filed 4-10-07; 8:45 am]

BILLING CODE 6730-01-P